DEPARTMENT OF COMMERCE

International Trade Administration

[A-570-852]

Creatine Monohydrate From the People's Republic of China; Initiation and Preliminary Results of Antidumping Duty Changed Circumstances Review

AGENCY: Import Administration, International Trade Administration, Department of Commerce.

ACTION: Notice of initiation and preliminary results of antidumping duty changed circumstances review.

SUMMARY: In response to a request from Suzhou Sanjian Fine Chemical Co., Ltd., the Department of Commerce is initiating a changed circumstances review of the antidumping duty order on creatine monohydrate from the People's Republic of China (“PRC”) (see Notice of Antidumping Duty Order: Creatine Monohydrate from the People's Republic of China, 65 FR 5583 (February 4, 2000)) and issuing this notice of preliminary results. Suzhou Sanjian Nutrient and Health Products Co., Ltd. has requested that the Department of Commerce review the company's name change and determine that Suzhou Sanjian Nutrient and Health Products Co., Ltd. is the successor-in-interest of Suzhou Sanjian Fine Chemical Co., Ltd.

EFFECTIVE DATE: February 28, 2003.

FOR FURTHER INFORMATION CONTACT: Blanche Ziv or Julie Santoboni, Import Administration, International Trade Administration, U.S. Department of Commerce, 14th Street and Constitution Avenue, NW., Washington, DC 20230; telephone (202) 482-4207 or (202) 482-4194 respectively.

SUPPLEMENTARY INFORMATION:

Background

On January 14, 2003, the Department received notification from Suzhou Sanjian Fine Chemical Co., Ltd. (“Suzhou Chemical”) that on September 15, 2000, its corporate name changed to Suzhou Sanjian Nutrient and Health Products Co., Ltd. (“Suzhou Health Products”). On January 23, 2003, we notified Suzhou Health Products that, in order to determine whether entries naming Suzhou Health Products as exporter should receive the cash deposit rate currently applied to Suzhou Chemical, it is necessary to conduct a changed circumstance review in accordance with section 751(b)(1) of the Act and 19 CFR 351.216. At that time, we also requested certain additional information from Suzhou Health Products concerning the circumstances of the name change. On February 12, 2003, Suzhou Health Products responded to our request for information.

Scope of the Review

Imports covered by this review are creatine monohydrate, which is commonly referred to as “creatine.” The chemical name for creatine monohydrate is N-(aminoiminomethyl)-N-methylgycine monohydrate. The Chemical Abstracts Service (“CAS”) registry number for this product is 6020-87-7. Creatine monohydrate in its pure form is a white, tasteless, odorless powder that is a naturally occurring metabolite found in muscle tissue. Creatine monohydrate is provided for in subheading 2925.20.90 of the Harmonized Tariff Schedule of the United States (“HTSUS”). Although the HTSUS subheading and the CAS registry number are provided for convenience and customs purposes, the written description of the merchandise under review is dispositive.

Initiation and Preliminary Results of Changed Circumstances Review

Pursuant to section 751(b)(1) of the Act, the Department will conduct a changed circumstances review upon receipt of information concerning, or a request from an interested party of, an antidumping duty order which shows changed circumstances sufficient to warrant a review of the order. Therefore, in accordance with section 751(b)(1) of the Act, we are initiating a changed circumstances review based upon the information contained in Suzhou Health Product's submissions.

Section 351.221(c)(3)(ii) of the regulations permits the Department to combine the notice of initiation of a changed circumstances review and the notice of preliminary results in a single notice, if the Department concludes that expedited action is warranted. In this instance, because we have the information necessary to make a preliminary finding already on the record and no other interested party has commented on, or objected to, Suzhou Health Products' request for a changed circumstances review, we find that expedited action is warranted and have combined the notice of initiation and the notice of preliminary results.

In making successor-in-interest determinations, the Department examines several factors including, but not limited to, changes in: (1) Management; (2) production facilities; (3) supplier relationships; and (4) customer base. See, e.g., Notice of Final Results of Changed Circumstances Duty Administrative Review: Polychloroprene Rubber from Japan, 67 FR 58, 58-59 (January 2, 2002). While no single factor, or combination of factors, will necessarily prove dispositive, the Department will generally consider the new company to be the successor to its predecessor company if the resulting operations are essentially the same as the predecessor company. See e.g., id. and Industrial Phosphoric Acid from Israel; Final Results of Changed Circumstances Review, 59 FR 6944, 6945 (February 14, 1994). Thus, if the evidence demonstrates that, with respect to the production and sale of the subject merchandise, the new company operates as the same business entity as its predecessor, the Department will assign the new company the cash-deposit rate of its predecessor.

In its February 12, 2003, submission Suzhou Health Products stated that the name change was effected solely for the purpose of clarifying the scope of the company's production to enhance its marketing efforts. Suzhou Health Products explained that it produces and sells creatine monohydrate and other health products, which are more accurately described as nutrient or health products, than as fine chemical products. Suzhou Health Products also stated that the name change was not due to a change in ownership, corporate strategy, management, corporate structure or customer base, all of which remain the same. Suzhou Health Products provided documentation in support of these claims including copies of the business licenses of the company before and after the name change, the resolution of the Board of Directors authorizing the name change, the application for the name change filed with the Wuxian City Foreign Economic and Trade Commission and the Commission's approval of the application, and corporate organization charts before and after the name change. Suzhou Health Products also stated that since the name change, subject merchandise was produced at the same facilities that Suzhou Chemical used to produce subject merchandise during the original sales-at-less-than-fair-value investigation (see Notice of Final Determination of Sales at Less Than Fair Value: Creatine Monohydrate from the People's Republic of China, 64 FR 71104 (December 20, 1999)).

Suzhou Health Products, in its February 12, 2003, submission, has provided evidence there were no changes in the company's corporate structure and management as a result of, or contemporaneously with, the change of name. With respect to supplier relationships, Suzhou Health Products states that no suppliers have discontinued their relationship with the company since the name change and, while certain suppliers have been added, the addition of these new suppliers is merely a consequence of normal market conditions and the availability of supply. Finally, Suzhou Health Products asserts that there have been no changes in its customer relationships or customer base due to the name change, sales of Suzhou Health Products entirely replace the sales of Suzhou Chemical, and there have been no changes in product names or product brands.

Based on the information submitted by Suzhou Health Products, we preliminarily find that Suzhou Health Products is the successor-in-interest to Suzhou Chemical. We find that the company's organizational structure, senior management, production facilities, supplier relationships, and customers have remained essentially unchanged. Furthermore, Suzhou Health Products has provided sufficient documentation of its name change. Based on all the evidence reviewed, we find that Suzhou Health Products operates as the same business entity as Suzhou Chemical. Thus, we preliminarily find that Suzhou Health Products should receive the same antidumping duty cash-deposit rate (i.e., a 50.32 percent antidumping duty cash-deposit rate) with respect to the subject merchandise as Suzhou Chemical, its predecessor company.

Public Comment

Any interested party may request a hearing within 30 days of publication of this notice. See 19 CFR 351.310(c). Any hearing, if requested, will be held 44 days after the date of publication of this notice, or the first working day thereafter. Interested parties may submit case briefs and/or written comments not later than 30 days after the date of publication of this notice. Rebuttal briefs and rebuttals to written comments, which must be limited to issues raised in such briefs or comments, may be filed not later than 37 days after the date of publication. Parties who submit arguments are requested to submit with the argument (1) a statement of the issue, (2) a brief summary of the argument, and (3) a table of authorities.

Consistent with section 351.216(e) of the Department's regulations, we will issue the final results of this changed circumstances review no later than 270 days after the date on which this review was initiated, or within 45 days if all parties agree to our preliminary finding.

We are issuing and publishing this finding and notice in accordance with sections 751(b)(1) and 777(i)(1) of the Act and section 351.216 of the Department's regulations.

Dated: February 24, 2003.
Susan Kuhbach,
Acting Assistant Secretary for Import Administration.

[FR Doc. 03-4793 Filed 2-27-03; 8:45 am]

BILLING CODE 3510-DS-P